DEPARTMENT OF COMMERCE

International Trade Administration

(C-475-827)

Correction to Notice of Amended Final Determination Pursuant to Final Court Decision and Partial Revocation of Order on Certain Cut-To-Length Plate from Italy

AGENCY: Import Administration, International Trade Administration, Department of Commerce.

SUMMARY: On August 29, 2005, the Department of Commerce published in the Federal Register its Notice of Amended Final Determination Pursuant to Final Court Decision and Partial Revocation of Order on Certain Cut-To-Length Plate from Italy, 70 FR 51013 (Amended Final Determination). Due to an error in the Amended Final Determination pertaining to the effective date of the amended final determination, the Department is issuing a correction.

EFFECTIVE DATE: November 20, 2006.

FOR FURTHER INFORMATION CONTACT: Eric B. Greynolds, AD/CVD Operations, Office 3, Import Administration, International Trade Administration, U.S. Department of Commerce, 14th Street and Constitution Ave., NW, Washington, DC 20230; telephone: (202) 482-6071.

SUPPLEMENTARY INFORMATION:

Correction

In the Amended Final Determination, we incorrectly stated that we would instruct U.S. Customs and Border Protection (CBP) to:

. . . collect cash deposits of estimated countervailing duties in the percentage of 2.45 percent ad valorem of the f.o.b. invoice price on all shipments of subject merchandise from ILVA/ILT entered or withdrawn from warehouse, for consumption, on or after April 16, 2004.

See 70 FR at 51014.

We correct and amend our Amended Final Determination with the following language:

We will instruct CBP to collect cash deposits of estimated countervailing duties in the percentage of 2.45 percent ad valorem of the f.o.b. invoice price on all shipments of subject merchandise from ILVA/ILT entered or withdrawn from warehouse, for consumption, on or after the publication date of this notice in the Federal Register.

This notice is published pursuant to sections 705(d) and 777(i) of the Act.

Dated: November 9, 2006.
David M. Spooner,
Assistant Secretary for Import Administration.

[FR Doc. E6-19597 Filed 11-17-06; 8:45 am]

BILLING CODE 3510-DS-S